DEPARTMENT OF LABOR

Employment and Training Administration

[TA-W-73,251]

AMTEX Incorporated, a Subsidiary of Hayashi Telepu Company, Including On-Site Leased Workers of Availability Personnel Services, Conerstone Staffing Solutions, Priority Business Services and Volt, Inc. Manteca, CA; Amended Certification Regarding Eligibility To Apply for Worker Adjustment Assistance

In accordance with Section 223 of the Trade Act of 1974, as amended (“Act”), 19 U.S.C. 2273, the Department of Labor issued a Certification of Eligibility to apply for Worker Adjustment Assistance on March 16, 2010. The notice will be published in the Federal Register soon.

At the request of the State Agency, the Department reviewed the certification for workers of the subject firm. The workers are engaged in activities related to the production of interior automotive carpet.

The company reports that workers leased from Volt, Inc. were employed on-site at the Manteca, California location of Amtex, Inc., a subsidiary of Hayashi Telepu Company. The Department has determined that these workers were sufficiently under the control of the subject firm to be considered leased workers.

Based on these findings, the Department is amending this certification to include workers leased from Volt, Inc. working on-site at the Manteca, California location of Amtex, Inc., a subsidiary of Hayashi Telepu Company.

The amended notice applicable to TA-W-73,251 is hereby issued as follows:

All workers of Amtex, Inc., a subsidiary of Hayashi Telepu Company, including on-site leased workers of Availability Personnel Services, Cornerstone Staffing Solutions, Priority Business Services and Volt, Inc, Manteca, California, who became totally or partially separated from employment on or after January 12, 2009 through March 16, 2012, and all workers in the group threatened with total or partial separation from employment on the date of certification through two years from the date of certification, are eligible to apply for adjustment assistance under Chapter 2 of Title II of the Trade Act of 1974, as amended.

Signed in Washington, DC, this 8th day of April 2010.
Elliott S. Kushner,
Certifying Officer, Division of Trade Adjustment Assistance.

[FR Doc. 2010-8894 Filed 4-16-10; 8:45 am]

BILLING CODE 4510-FN-P